COMMISSION ON CIVIL RIGHTS

Notice of Public Meetings of the Delaware Advisory Committee to the U.S. Commission on Civil Rights

AGENCY: Commission on Civil Rights.

ACTION: Announcement of meetings.

SUMMARY: Notice is hereby given, pursuant to the provisions of the rules and regulations of the U.S. Commission on Civil Rights (Commission), and the Federal Advisory Committee Act (FACA), that, starting in March, the Delaware Advisory Committee to the Commission will hold monthly virtual planning meetings on the first and third Wednesdays at 1 p.m. (ET). The purpose of the meetings is to discuss and vote to submit the Committee's COVID 19 health disparities report to the agency's Office of the General Counsel for the legal sufficiency review and to the Staff Director for publication. These meetings are open to the public and votes will be taken, as required.

DATES:

First Wednesdays: 1st Wednesdays of the month at 1 p.m. (ET): March 6, April 6, May 1, and June 5, 2024.

Meeting Link for 1st Wednesdays at 1 p.m. ET (Audio/Visual): https://tinyurl.com/2sstbf6v; password: USCCR-DE.

Join by Phone for 1st Wednesdays at 1 p.m. ET (Audio Only): 1-833-435-1820 USA Toll-Free; Meeting ID: 160 832 3278#.

Third Wednesdays: 3rd Wednesdays of the month at 1 p.m. ET: March 20, April 17, and May 15, 2024.

Meeting Link for 3rd Wednesdays at 1 p.m. ET (Audio/Visual): http://tinyurl.com/yc7k4bv7; password: USCCR-DE.

Join by Phone for 3rd Wednesdays at 1 p.m. ET (Audio Only): 1-833-435-1820 USA Toll-Free; Meeting ID: 160 604 6452#.

FOR FURTHER INFORMATION CONTACT: Ivy Davis, Designated Federal Official at ero@usccr.gov or by phone at 1-202-530-8468.

SUPPLEMENTARY INFORMATION: Members of the public may attend these Committee meetings through the registration link above. Any interested member of the public may listen to the meetings. An open comment period will be provided to allow members of the public to make brief statements as time allows. Per the Federal Advisory Committee Act, public minutes of the meetings will include a list of persons who attend the meetings. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Evelyn Bohor, ebohor@usccr.gov, at least 10 business days prior to a meeting.

Members of the public are entitled to submit written comments; the comments must be received in the regional office within 30 days following each meeting. Written comments may be emailed to the attention of Ivy Davis at ero@usccr.gov. Persons who desire additional information may contact Evelyn Bohor at ebohor@usccr.gov.

Records generated from each meeting may be inspected and reproduced at the Regional Programs Coordination Unit Office, as they become available, both before and after each meeting. Records of meetings will be available via www.facadatabase.gov under the Commission on Civil Rights, Delaware Advisory Committee link. Persons interested in the work of this Committee are directed to the Commission's website, http://www.usccr.gov, or may contact Evelyn Bohor at ebohor@usccr.gov.

Agenda

I. Welcome and Roll Call

II. Project Planning, Report Discussion and Vote(s), as needed

III. Other Business

IV. Next Planning Meeting

V. Public Comments

VI. Adjourn

Dated: February 2, 2024.
David Mussatt,
Supervisory Chief, Regional Programs Unit.

[FR Doc. 2024-02482 Filed 2-6-24; 8:45 am]

BILLING CODE P